FEDERAL MINE SAFETY AND HEALTH REVIEW COMMISSION

Sunshine Act Meeting

November 21, 2007.

Time and Date: 10 a.m., Tuesday, December 4, 2007.

Place: The Richard V. Backley Hearing Room, 9th Floor, 601 New Jersey Avenue, NW., Washington, DC.

Status: Open.

Matters to be Considered: The Commission will consider and act upon the following in open session: Secretary of Labor v. Empire Iron Mining Partnership, Docket No. LAKE 2006-60-RM. (Issues include whether the Administrative Law Judge correctly ruled that the Secretary of Labor may properly allege violations of alternative standards in a citation and whether the Judge correctly determined that the operator violated 30 CFR 56.14105.)

Any person attending this meeting who requires special accessibility features and/or auxiliary aids, such as sign language interpreters, must inform the Commission in advance of those needs. Subject to 29 CFR 2706.150(a)(3) and 2706.160(d).

Contact Person For More Info: Jean Ellen, (202) 434-9950/(202) 708-9300 for TDD Relay/1-800-877-8339 for toll free.

Jean H. Ellen,
Chief Docket Clerk.

[FR Doc. 07-5880 Filed 11-26-07; 4:04 pm]

BILLING CODE 6735-01-M